SMALL BUSINESS ADMINISTRATION

[Declaration of Disaster #3383]

State of Mississippi; Amendment #2

In accordance with information received from the Federal Emergency Management Agency, dated January 10, 2002, the above-numbered Declaration is hereby amended to include Coahoma and Tallahatchie Counties in the State of Mississippi as a disaster area due to damages caused by severe storms, tornadoes, and flooding and to establish the incident period for this disaster as beginning on November 24, 2001 and continuing through December 17, 2001.

All counties contiguous to the above-named primary counties have been previously declared.

All other information remains the same, i.e., the deadline for filing applications for economic injury is September 9, 2002.

(Catalog of Federal Domestic Assistance Program Nos. 59002 and 59008)

Dated: January 14, 2002.
Herbert L. Mitchell,
Associate Administrator, for Disaster Assistance.

[FR Doc. 02-1458 Filed 1-18-02; 8:45 am]

BILLING CODE 8025-01-P